ENVIRONMENTAL PROTECTION AGENCY

[FRL-8454-3]

Proposed CERCLA Administrative Cost Recovery Settlement; FCI, USA, Inc., Wampus Milford Associates Superfund Site, Milford, CT

AGENCY: Environmental Protection Agency (EPA).

ACTION: Notice; request for public comment.

SUMMARY: In accordance with section 122(i) of the Comprehensive Environmental Response, Compensation and Liability Act, as amended (“CERCLA”), 42 U.S.C. 9622(i), notice is hereby given of a proposed administrative settlement for recovery of past response costs and future oversight response costs concerning the Wampus Milford Associates Superfund Site in Milford, Connecticut with the following settling party: FCI, USA, Inc. The settling party has agreed to perform the response action and EPA has agreed not to seek recovery of $91,541 in past costs and agreed not to pursue future oversight costs from the settling party. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate.

The Agency's response to any comments received will be available for public inspection at One Congress Street, Boston, MA 02114-2023.

DATES: Comments must be submitted on or before September 13, 2007.

ADDRESSES: Comments should be addressed to the Regional Hearing Clerk, U.S. Environmental Protection Agency, Region I, One Congress Street, Suite 1100 (RAA), Boston, Massachusetts 02114-2023 and should refer to: In re: Wampus Milford Associates Superfund Site, U.S. EPA Docket No. 01-2007-0110.

FOR FURTHER INFORMATION CONTACT: A copy of the proposed settlement may be obtained from Amelia Katzen, Senior Enforcement Counsel, U.S. Environmental Protection Agency, Region I, Office of Environmental Stewardship, One Congress Street, Suite 1100 (SES), Boston, MA 02114-2023, telephone (617) 918-1869.

Dated: August 1, 2007.
Richard Cavagnero,
Acting Director, Office of Site Remediation and Restoration.

[FR Doc. E7-15912 Filed 8-13-07; 8:45 am]

BILLING CODE 6560-50-P